DEPARTMENT OF TRANSPORTATION

Federal Railroad Administration

[Docket No. FRA-2021-0006-N-15]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before January 7, 2022.

ADDRESSES: Written comments and recommendations for the proposed ICR should be submitted on regulations.gov to the docket, Docket No. FRA-2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Passenger Equipment Safety Standards.

OMB Control Number: 2130-0544.

Abstract: The information collection under 49 CFR part 238 is used by FRA to promote passenger train safety by ensuring requirements are met for railroad equipment design and performance, fire safety, emergency systems, inspection, testing, and maintenance, and other provisions for the safe operation of railroad passenger equipment. For instance, the information collected from daily inspections is used to detect and correct equipment problems in order to prevent, to the extent that they can be prevented, collisions, derailments, and other occurrences involving railroad passenger equipment that cause injury or death to railroad employees, railroad passengers, or to the general public.

Upon detailed review of part 238, FRA made several adjustments to its estimated paperwork burdens in this ICR extension.¹ As noted in the PRA table below, FRA determined that many estimated paperwork burdens were either outdated or accounted for in other regulatory sections. Additionally, FRA found the associated burdens related to train equipment inspection and testing, as well as employee training and job briefings have been addressed previously when FRA calculated the economic costs of the regulation. FRA also notes below where it anticipates zero railroad submissions during this 3-year ICR period.

¹ The public can view any and all estimate adjustments to FRA's active ICRs in the Supporting Statements published at https://www.reginfo.gov/public/. The Supporting Statement for this ICR will be available after the 30-Day Federal Register notice is published in reginfo.gov.

Type of Request: Extension without change (with changes in estimates) of a currently approved collection.

Affected Public: Businesses.

Form(s): N/A.

Respondent Universe: 34 railroads and manufacturers.

Frequency of Submission: On occasion.

Reporting Burden
CFR Section ² | Respondent universe | Total annual responses | Average time per responses | Total annual burden hours | Total cost equivalent ³
229.47(a)-(b)—Emergency Brake Valve—Marking brake pipe valve as such | FRA anticipates zero submissions for stencils and markings.
238.7—Waivers | 34 railroads | 12 waivers | 6 hours | 72.00 | $5,575.68
238.15(b)—Movement of passenger equipment with power brake defects—Limitations on movement of passenger equipment containing a power brake defect at the time a Class I or IA brake test is performed—Passenger equipment tagged or information is recorded as prescribed under § 238.18(c)(2) | 34 railroads | 1,000 tags | 3 minutes | 50.00 | 3,872.00
—(c) Limitations on movement of passenger equipment in passenger service that becomes defective en route after a Class I or IA brake test—Tagging of defective equipment | 34 railroads | 288 tags | 3 minutes | 14.40 | 1,115.14
—(c)(4) Conditional requirement—Notice between employees | Duplicate estimate removed. The estimated paperwork burden for this regulatory requirement is covered under § 238.15(a)-(b).
238.17—Movement of passenger equipment with other than power brake defects—Tagging of defective equipment | 34 railroads | 200 tags | 3 minutes | 10.00 | 774.40
—(e) Special requisites for movement of passenger equipment with safety appliance defects | Duplicate estimate removed. The estimated paperwork burden for this regulatory requirement is covered under § 238.17.
—(e)(4) Crew member notifications | Duplicate estimate removed. The estimated paperwork burden for this regulatory requirement is covered under § 238.17.
238.19(b)-(c)—Reporting and tracking defective passenger equipment—Retention or availability of records | FRA determined, since the 1990s, retention and availability of records for reporting and tracking defective passenger equipment are handled by the railroad industry as part of their normal business operations.
—(d) List of power brake repair points | This ICR only affects Amtrak, which has submitted the necessary list of power brake repair points. FRA does not anticipate any changes or updates to this list over the next few years. Consequently, there is no burden associated with this requirement.
238.21(b)—Special approval procedure—Petitions for special approval of alternative standard | 34 railroads | 1 petition | 16 hours | 16.00 | 1,239.04
—(c) Petitions for special approval of alternative compliance | 34 railroads | 1 petition | 40 hours | 40.00 | 3,097.60
—(f) Comments on petitions | Manufacturers and public | 2 comments | 1 hour | 2.00 | 154.88
238.103(c)—Fire safety analysis for procuring new passenger cars and locomotives | 1 new railroad | 1 analysis | 150 hours | 150.00 | 11,616.00
—(d) Fire safety analysis for existing passenger cars and locomotives—Revised Fire Safety Analysis for leased or transferred equipment | 34 railroads | 1 revised analysis | 10 hours | 10.00 | 774.40
238.105—Train electronic hardware and software safety—New railroads | 1 new railroad | 1 program plan | 150 hours | 150.00 | 11,616.00
238.107—Inspection, testing, and maintenance plan—Development of maintenance plan for new railroads | 1 new railroad | 1 maintenance plan | 150 hours | 150.00 | 0.00
—(c) Inspection, testing, and maintenance plan for existing railroads—Maintenance plan review | 34 railroads | 34 maintenance plan reviews | 20 hours | 680.00 | 52,659.20
238.109(b)—Training, qualification, and designation program—Development of training program/curriculum for new railroads | 1 new railroad | 1 training program | 160 hours | 160.00 | 0.00
—(b) Training employees and supervisors | The associated burdens relating to the training of employees and supervisors have been addressed previously when FRA calculated the economic costs of the regulation.
—(b)(13) Recordkeeping—Employees and trainers—Training qualifications | 34 railroads | 488 records | 3 minutes | 24.40 | 1,889.54
238.111(a)—Pre-revenue service acceptance testing plan: Passenger equipment that has previously been used in service in the U.S. | 34 railroads | 1 plan | 16 hours | 16.00 | 1,239.04
—(b) Passenger equipment that has not been previously used in revenue service in the U.S | 34 railroads | 1 plan | 192 hours | 192.00 | 14,868.48
—(b) Subsequent equipment orders | Duplicate estimate removed. The estimated paperwork burden for this regulatory requirement is covered above under § 238.111(a) and (b).
—(b)(4) Tier II & Tier III passenger equipment: Report of test results to FRA | 1 railroad | 1 letter | 4 hours | 4.00 | 309.76
—(b)(7) and (c) Plan submitted to FRA for Tier II or Tier III equipment before being placed in service | In the past 20 years, FRA only received 1 modification plan. Thus, FRA anticipates zero modified plans in the next three years.
238.131—Exterior side door safety systems—New passenger cars/locomotives used in passenger service—Failure Modes, Effects, Criticality Analysis (FMECA) | 1 new railroad | 1 analysis | 80 hours | 80.00 | 6,195.20
238.133(a)—Exterior side door safety systems—Passenger cars and locomotives used in a passenger service—By-pass device verification—Functional test plans | 1 new railroad | 1 plan | 4 hours | 4.00 | 309.76
—(b) Unsealed door by-pass device—Notification to railroad's designated authority by train crewmember of unsealed door by-pass device | The associated burdens related to safety job briefings have been addressed previously when FRA calculated the economic costs of the regulation.
—(c) En route failure—Safety briefing by train crew when door by-pass device is activated | 34 railroads | 100 topic-specific briefings and notifications | 2 minutes | 3.33 | 257.88
—(c) Notification to designated RR authority by train crewmember that door by-pass device has been activated | Duplicate estimate removed. The estimated paperwork burden for this regulatory requirement is already covered above under § 238.133(c).
—(c)(1) On-site qualified person (QP) description to a qualified maintenance person (QMP) off-site that equipment is safe to move for repairs | Duplicate estimate removed. The estimated paperwork burden for this regulatory requirement is already covered above under § 238.133(c).
—(c)(2) QP/QMP notification to crewmember in charge that door by-pass has been activated and safety briefing by train crew | Duplicate estimate removed. The estimated paperwork burden for this regulatory requirement is already covered above under § 238.133(c).
—(d) Records | 34 railroads | 100 records | 2 minutes | 3.33 | 257.88
—(d) Records of unintended opening of a powered exterior side door | Duplicate estimate removed. The estimated paperwork burden for this regulatory requirement is already covered above under § 238.133(d).
—(g)(2) RR record of by-pass activations found unsealed | Duplicate estimate removed. The burden for this requirement is already covered above under § 238.133(d).
238.135(a)(1)—Operating practices for exterior side door safety systems—Daily job briefings | The associated burdens related to daily job briefings have been addressed previously when FRA calculated the economic costs of the regulation.
—(c) Railroads' request to FRA for special consideration to operate passenger trains with exterior side doors or trap doors, or both, open between stations | Duplicate estimate removed. The estimated paperwork burden for this regulatory requirement is already covered above under § 238.7 or § 238.21 for purposes of this analysis only.
—(c)(4) Railroads' response to FRA request for additional information concerning special consideration request | Duplicate estimate removed. The estimated paperwork burden for this regulatory requirement is already covered above under § 238.7 or § 238.21 for purposes of this analysis only.
—(d) Operating rules on how to safely override a door summary circuit or no-motion system, or both, in the event of an en route exterior side door failure or malfunction on a passenger train (Note: Includes burden under § 238.137) | 1 new railroad | 1 operating rule | 8 hours | 8.00 | 619.52
—(d) Railroads to provide a copy of written operating rules to train crew members and control center personnel | Railroads were required to complete the requirements of this subsection by December 6, 2018, so the estimated burden is zero.
—(e) Railroads' training of train crew members on requirements of this section | The associated burdens relating to the training of train crew members have been addressed previously when FRA calculated the economic costs of the regulation. FRA estimates the paperwork burdens associated with training recordkeeping under § 238.109 or under the OMB control numbers 2130-0596 or 2130-0533.
—(e) Railroads' training of new employees | The associated burdens relating to the training of new employees have been addressed previously when FRA calculated the economic costs of the regulation. FRA estimates the burdens associated with training recordkeeping under § 238.109 or under the OMB control numbers 2130-0596 or 2130-0533.
—(g) RR operational/efficiency tests of train crew members & control center employees | The associated burdens relating to operational testing or observation of operating crewmembers and control center personnel have been previously addressed when FRA calculated the economic costs of the regulation.
238.201(b)—Scope/alternative compliance—Supporting documentation demonstrating compliance | Duplicate estimate removed. The estimated paperwork burden for this regulatory requirement is already covered above under § 238.21.
—(b) Notice of tests sent to FRA 30 days prior to commencement of operations | Duplicate estimate removed. The estimated paperwork burden for this regulatory requirement is already covered above under § 238.111(b)(4).
238.229(c)—Safety appliances—Welded safety appliances—Written lists submitted to FRA by the railroads | 1 new railroad | 1 list | 1 hour | 1.00 | 77.44
—(d) Defective welded safety appliance or welded safety appliance bracket or support—Tagging | 34 railroads | 4 tags | 3 minutes | .20 | 11.98
—(d) Notification to crewmembers about non-compliant equipment | 34 railroads | 2 notices | 1 minute | .03 | 2.32
—(g) Inspection plans | 1 new railroad | 1 plan | 16 hours | 16.00 | 1,239.04
—(h) Inspection personnel—Training | The associated burdens relating to training of inspection personnel have been addressed previously when FRA calculated the economic costs of the regulation. FRA estimates the paperwork burdens associated with the retention of training records under § 238.109.
—(j)(1)(iv) Remedial action: Defect/crack in weld—A record of the welded repair | The associated burdens relating to inspections have been addressed previously when FRA calculated the economic costs of the regulation. FRA estimates the paperwork burdens associated with the retention of inspection records under § 238.229(k).
—(j)(2)(iv) Petitions for special approval of alternative compliance—Impractical equipment design | Duplicate estimate removed. The estimated paperwork burden for this regulatory requirement is already covered above under § 238.21.
—(k) Records of the inspection and repair of the welded safety appliance brackets | Duplicate estimate removed. The estimated burden for this regulatory requirement is already covered below under § 238.303 and under the OMB control number 2130-0004 (§ 229.21).
238.230(b)(1)—Safety Appliances—New equipment—Inspection record of welded equipment by qualified employee | FRA anticipates zero records.
—(b)(3) Welded safety appliances: Documentation for equipment impractically designed to mechanically fasten safety appliance support | FRA anticipates zero plans.
238.231—Brake System—Inspection and repair of hand/parking brake: Records (under FRA Form 6180.49A) | The paperwork burden for this requirement is covered under § 238.303 and under the OMB control number 2130-0004.
—(h) Procedures verifying hold of hand/parking brakes | 1 new railroad | 1 procedure | 2 hours | 2.00 | 154.88
238.237(a)-(b)—Automated monitoring- Documentation for alerter/deadman control timing | 1 new railroad | 1 document | 2 hours | 2.00 | 154.88
—(d) Defective alerter/deadman control: Tagging | 34 railroads | 25 tags | 3 minutes | 1.25 | 74.86
238.303—Exterior calendar day mechanical inspection of passenger equipment: Notice of previous inspection | FRA anticipates zero notices.
—(e)(15) Dynamic brakes not in operating mode: Tag | 34 railroads | 50 tags | 3 minutes | 2.50 | 149.73
—(e)(15)(ii) Conventional locomotives equipped with inoperative dynamic brakes: Tagging | Duplicate estimate removed. The estimated paperwork burden for this regulatory requirement is already covered above under § 238.303(e)(15).
—(e)(17) MU passenger equipment found with inoperative/ineffective air compressors at exterior calendar day inspection: Documents | FRA anticipates zero submissions.
—(e)(17)(v) Written notice to train crew about inoperative/ineffective air compressors | Duplicate estimate removed. The estimated paperwork burden for this regulatory requirement is already covered above under § 238.303(e)(15).
—(e)(18)(iv) Records of inoperative air compressors | Duplicate estimate removed. The estimated paperwork burden for this regulatory requirement is already covered below under § 238.303(g).
—(g) Record of exterior calendar day mechanical inspection (Other than locomotives) (*Note: Includes burden for records of inoperative air compressors under § 238.303(e)(18)(iv)) | 34 railroads | 1,734,115 daily inspection records | 1 minute | 28,901.92 | 2,238,164.68
238.305—Interior calendar day mechanical inspection of passenger cars—Tagging of defective end/side doors | 34 railroads | 540 tags | 3 minutes | 27.00 | 2,090.88
—(f) Records of interior calendar day inspection | 34 railroads | 3,102,865 daily inspection records | 1 minute | 51,714.42 | 4,004,764.68
238.307(a)(2)—Periodic mechanical inspection of passenger cars and unpowered vehicles—Alternative inspection intervals: Notifications | 34 railroads | 2 notices | 5 hours | 10.00 | 774.40
—(c)(1) Notice of seats and seat attachments broken or loose | 34 railroads | 200 notices | 2 minutes | 6.67 | 399.47
—(e)(1) Records of each periodic mechanical inspection | 34 railroads | 5,184 inspection records | 1 hour | 5,184.00 | 310,469.76
—(e)(2) Detailed documentation of reliability assessments as basis for alternative inspection interval | 34 railroads | 2 documents | 100 hours | 200.00 | 15,488.00
238.311—Single car test—Tagging to indicate need for single car test | 34 railroads | 50 tags | 3 minutes | 2.50 | 149.73
238.313(h)—Class I Brake Test—Record for additional inspection for passenger equipment that does not comply with § 238.231(b)(1) | 34 railroads | 15,600 records | 30 minutes | 7,800.00 | 467,142.00
238.315(a)(1)—Class IA brake test —Notice to train crew that test has been performed (verbal notice) | The associated burdens related to briefings have been addressed previously when FRA calculated the economic costs of the regulation.
—(f)(5) Communicating signal tested and operating as intended | The associated burdens related to briefings have been addressed previously when FRA calculated the economic costs of the regulation.
238.317—Class II brake test—Communicating signal tested and operating as intended | The associated burdens related to briefings have been addressed previously when FRA calculated the economic costs of the regulation.
238.321—Out-of-service credit—Passenger car: Out-of-use notation | Duplicate estimate removed. The estimated paperwork burden for this regulatory requirement is covered under § 238.307 and under OMB control number 2130-0004 under 229.23(d)-(g).
238.445(a)—Automated Monitoring —Performance monitoring: alerters/alarms | There are no paperwork burdens associated with this subsection. FRA corrects its previous overinclusion.
—(c) Monitoring system: Self-test feature: Notifications | There are no paperwork burdens associated with this subsection. FRA corrects its previous overinclusion.
238.703—Quasi-static compression load requirements—Document to FRA on Tier III trainsets | 1 new railroad | .33 document | 40 hours | 13.20 | 1,022.21
238.705—Dynamic collision scenario—Model validation document to FRA for review and approval | 1 new railroad | .33 validation document | 40 hours | 13.20 | 1,022.21
238.707—Override protection—Anti-climbing performance evaluation for Tier III trainsets | 1 new railroad | .33 evaluation | 40 hours | 13.20 | 1,022.21
238.709—Fluid entry inhibition—Information to demonstrate compliance with this section of a Tier III trainset | 1 new railroad | .33 analysis | 20 hours | 6.60 | 511.10
238.721—Glazing—Cab glazing; end facing—Documentation containing technical justification | 3 glass manufacturers | .33 technical documentation | 60 hours | 19.80 | 1,533.31
—(a)(6) Marking of end-facing exterior windows for Tier III trainsets | Windows are, customarily, automatically marked during the production process. Therefore, there will be no additional burden to mark the windows.
—(b) Cab Glazing; side-facing exterior windows in Tier III cab—Each end-facing exterior window in a cab shall, at a minimum, provide ballistic penetration resistance that meets the requirements of appendix A to part 223 (Certification of Glazing Materials) | 3 glass manufacturers | .33 analysis | 10 hours | 3.30 | 255.55
—(b) Marking of side-facing exterior windows in Tier III Trainsets | Windows are, customarily, automatically marked during the production process. Therefore, there will be no additional burden to mark the windows.
—(c) Non-Cab Glazing; Side-facing exterior windows—Tier III—compliance document for Type II glazing | 3 glass manufacturers | .33 analysis | 20 hours | 6.60 | 511.10
—(c) Marking of side-facing exterior windows—Tier III Trainsets—non-cab cars | Windows are, customarily, automatically marked during the production process. Therefore, there will be no additional burden to mark the windows.
—(c)(2) Alternative standard to FRA for side-facing exterior window intended to be breakable and serve as an emergency window exit (option to comply with an alternative standard) | 3 glass manufacturers | .67 alternative analysis | 5 hours | 3.35 | 259.42
238.731(a)—Brake Systems—RR analysis and testing Tier III trainsets' maximum safe operating speed | Duplicate estimate removed. The estimated paperwork burden for this regulatory requirement is covered under § 238.111(b).
—(d) Tier III trainsets' passenger brake alarm—legible stenciling/marking of devices with words “Passenger Brake Alarm” (Including the design of the sticker) | 1 new railroad | 53.33 stencilings | 1 hour (design) + 2 minutes (marking) | 55.11 | 3,300.54
—(f) Main reservoir test/certification | 1 new railroad | .33 certification | 6 hours | 1.98 | 118.58
—(h) Main reservoir tests—Inspection, testing and maintenance (ITM) plan | 1 railroad | .33 ITM plan | 10 hours | 3.30 | 255.55
—(j) Brake application/release—Brake actuator design with approved brake cylinder pressure as part of design review process | 1 railroad | .33 design | 40 hours | 13.20 | 1,022.21
—(o) Train securement—Tier III equipment: demonstrated securement procedure | 1 railroad | .33 procedure | 8 hours | 2.64 | 204.44
238.733—Interior fixture attachment—Analysis for FRA approval (Tier III) | 1 railroad | .33 analysis/document | 20 hours | 6.60 | 511.10
238.735—Seat crashworthiness standard (passenger & cab crew)—Analysis for FRA approval (Tier III) | 1 railroad | .33 analysis/document | 40 hours | 13.20 | 1,022.21
238.737—Luggage racks—Analysis for FRA approval (Tier III) | 1 railroad | .33 analysis/document | 20 hours | 6.60 | 511.10
238.741—Emergency window egress and rescue access—Plan to FRA for passenger cars in Tier III trainsets not in compliance with sections 238.113 or 238.114 | 1 railroad | .33 plan | 60 hours | 19.80 | 1,533.31
238.743—Emergency Lighting—Analysis for FRA approval (Tier III) | 1 railroad | .33 analysis/test | 60 hours | 19.80 | 1,533.31
238.751—Alerters—Alternate technology—Analysis for FRA approval (Tier III) | 1 railroad | .33 analysis/test | 40 hours | 13.20 | 1,022.21
Total | 34 railroads | 4,860,940 Responses | N/A | 95,946 | 7,149,477

Total Estimated Annual Responses: 4,860,940.

² The current inventory exhibits a total burden of 4,600,273 hours while the total burden of this notice is 95,946 hours. As part of its review of this ICR renewal, FRA determined some of the previous estimates were initial estimates, outdated, duplicative, or outside the scope of the PRA. For instance, the burdens previously associated with 49 CFR 238.303(g), 238.305(f), and 238.307(e) were significantly adjusted after removing the inspection times from the burden hours. This adjustment is correct because the burden is imposed by the underlying regulation, thus times for the inspection did not arise from this information collection requirement, so it was incorrect to quantify them as costs related to the information collection.

³ The dollar equivalent cost is derived from the Surface Transportation Board's 2020 Full Year Wage A&B data series using the appropriate employee group hourly wage rate that includes a 75-percent overhead charge.

Total Estimated Annual Burden: 95,946 hours.

Total Estimated Annual Burden Hour Dollar Cost Equivalent: $7,149,477.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2021-24300 Filed 11-5-21; 8:45 am]

BILLING CODE 4910-06-P